DEPARTMENT OF THE INTERIOR

Bureau of Indian Affairs

Renewal of Agency Information Collection for Acquisition of Trust Land

AGENCY: Bureau of Indian Affairs, Interior.

ACTION: Notice of request for comments.

SUMMARY: The Bureau of Indian Affairs (BIA) is seeking comments on renewal of Office of Management and Budget (OMB) approval, pursuant to the Paperwork Reduction Act, for the collection of information for the acquisition of land into trust status pursuant to 25 CFR part 151, Land Acquisitions. The information collection is currently authorized by OMB Control Number 1076-0100, which expires April 30, 2010. The information collection allows BIA to ensure compliance with regulatory and statutory requirements for taking land into trust on behalf of individual Indians or Indian tribes.

DATES: Interested persons are invited to submit comments on or before April 19, 2010.

ADDRESSES: You may submit comments on the information collection to Ben Burshia, Bureau of Indian Affairs, Division of Real Estate Services, Mail Stop 4639-MIB, 1849 C Street, NW., Washington, DC 20240; facsimile: (202) 208-7737; e-mail: Ben.Burshia@bia.gov.

FOR FURTHER INFORMATION CONTACT: Ben Burshia (202) 208-7737.

SUPPLEMENTARY INFORMATION:

I. Abstract

BIA is seeking renewal of the approval for the information collection conducted under 25 CFR 151, Land Acquisitions, for the United States to take land into trust for individual Indians and Indian tribes. This information collection allows BIA to review applications for compliance with regulatory and statutory requirements. Approval for this collection expires April 30, 2010. No specific form is used. No third party notification or public disclosure burden is associated with this collection. There is no change to the approved burden hours for this information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires April 30, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0100.

Title: Acquisition of Trust Land, 25 CFR 151.

Brief Description of Collection: Submission of this information allows BIA to review applications for the acquisition of land into trust status by the United States on behalf of individual Indians and Indian tribes, pursuant to 25 CFR 151. The information also allows the Secretary to comply with the National Environmental Policy Act and to determine if title to the subject property is marketable and unencumbered. No specific form is used, but respondents supply information and data in accordance with 25 CFR 151, so that BIA may make an evaluation and determination on the application.

Response is required to obtain a benefit.

Type of Review: Extension without change of a currently approved collection.

Respondents: Individual Indians and Indian tribes seeking acquisition of land into trust status.

Number of Respondents: 1,000.

Total Number of Responses: 1,000.

Frequency of Response: Once per each tract of land to be acquired.

Estimated Time per Response: Ranges from 60 to 110 hours.

Estimated Total Annual Burden: 67,800 hours.

Dated: February 3, 2010.
Alvin Foster,
Acting Chief Information Officer—Indian Affairs.

[FR Doc. 2010-3144 Filed 2-17-10; 8:45 am]

BILLING CODE 4310-W7-P